FEDERAL COMMUNICATIONS COMMISSION

Notice of Public Information Collection(s) Being Reviewed by the Federal Communications Commission, Comments Requested

May 3, 2004.

SUMMARY: The Federal Communications Commission, as part of its continuing effort to reduce paperwork burden invites the general public and other Federal agencies to take this opportunity to comment on the following information collection(s), as required by the Paperwork Reduction Act (PRA) of 1995, Public Law 104-13. An agency may not conduct or sponsor a collection of information unless it displays a currently valid control number. No person shall be subject to any penalty for failing to comply with a collection of information subject to the Paperwork Reduction Act that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before July 12, 2004. If you anticipate that you will be submitting comments, but find it difficult to do so within the period of time allowed by this notice, you should advise the contact listed below as soon as possible.

ADDRESSES: Direct all Paperwork Reduction Act (PRA) comments to Les Smith, Federal Communications Commission, Room 1-A804, 445 12th Street, SW., Washington, DC 20554 or via the Internet to Leslie.Smith@fcc.gov.

FOR FURTHER INFORMATION CONTACT: For additional information or copies of the information collection(s), contact Les Smith at (202) 418-0217 or via the Internet at Leslie.Smith@fcc.gov.

SUPPLEMENTARY INFORMATION: OMB Control Number: 3060-XXXX.

Title: Implementation of Section 25 of the Cable Television Consumer Protection and Competition Act of 1992 Re: DBS Public Interest Obligations, 47 CFR Section 25.701.

Form Number: N/A.

Type of Review: New collection.

Respondents: Business or other for-profit entities.

Number of Respondents: 15.

Estimated Time per Response: 25 hours.

Frequency of Response: Quarterly and on occasion reporting requirements.

Total Annual Burden: 375 hours.

Total Annual Cost: None.

Privacy Impact Assessment: No impact.

Needs and Uses: On March 25, 2004, the FCC released a Second Order on Reconsideration of First Report and Order, In the Matter of Implementation of Section 25 of the Cable Television Consumer Protection and Competition Act of 1992, Direct Broadcast Satellite Public Interest Obligations, Sua Sponte Reconsideration (“Order”), MM Docket No. 93-25, FCC 04-44. The political broadcasting reporting and recordkeeping requirements adopted in this Order will be used by the public to assess money expended and time allotted to a political candidate and by the Commission to ensure that equal access is afforded to other qualified candidates. The Commission and the public will use the children's programming recordkeeping burden to verify DBS operator compliance with the Commission's commercial limits on children's television programming.

OMB Control Number: 3060-XXXX.

Title: Application for Digital Channel Election for Television Broadcast station, FCC Form 339.

Form Number: FCC 339.

Type of Review: New collection.

Respondents: Business or other for-profit entities; Not-for-profit institutions.

Number of Respondents: 1,700.

Estimated Hours per Response: 1 hour.

Frequency of Response: One-time reporting requirement.

Total Annual Burden: 1,700 hours.

Total Annual Cost: 340,000.

Privacy Impact Assessment: No impact.

Needs and Uses: FCC Form 339 is used to elect a Digital Television (DTV) Channel for final DTV operations. All television stations, except those without an “in core” (Channels 2-51), NTSC, or DTV channel, must file FCC Form 339 electronically.

Federal Communications Commission.
Marlene H. Dortch,
Secretary.

[FR Doc. 04-10679 Filed 5-10-04; 8:45 am]

BILLING CODE 6712-10-P